DEPARTMENT OF DEFENSE

Department of the Army

[Docket ID: USA-2015-HQ-0035]

Submission for OMB Review; Comment Request

ACTION: Notice.

SUMMARY: The Department of Defense has submitted to OMB for clearance, the following proposal for collection of information under the provisions of the Paperwork Reduction Act.

DATES: Consideration will be given to all comments received by May 11, 2016.

FOR FURTHER INFORMATION CONTACT: Fred Licari, 571-372-0493.

SUPPLEMENTARY INFORMATION: Title, Associated Form and OMB Number: Exchange Security Clearance Process for Contractor/Vendor Personnel; Exchange Form 3900-013 “Electronic Questionnaires for Investigations Processing (e-QIP) Request,” Exchange Form 3900-002 “Trusted Associate Sponsorship System (TASS Request Form),” Exchange Form 3900-006 “Background Check for Vendors/Contractors;” OMB Control Number 0702-XXXX.

Type of Request: Existing collection in use without an OMB Control Number.

Number of Respondents: 2300.

Responses per Respondent: 1.

Annual Responses: 2300.

Average Burden per Response: 120 minutes.

Annual Burden Hours: 4600.

Needs and Uses: The information collection requirement is necessary for the processing of all Army and Air Force Exchange security clearance actions, to record security clearances issued or denied, and to verify eligibility for access to classified information or assignment to a sensitive position.

Affected Public: Individuals or households; business or other for-profit.

Frequency: On occasion.

Respondent's Obligation: Required to obtain or retain benefits.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: April 6, 2016.
Aaron Siegel,
Alternate OSD Federal Register Liaison Officer, Department of Defense.

[FR Doc. 2016-08246 Filed 4-8-16; 8:45 am]

BILLING CODE 5001-06-P